DEPARTMENT OF TRANSPORTATION

Federal Aviation Administration

14 CFR Parts 108, 109, 111, 129 and 191

[Docket No. FAA-1999-6673; Notice No. 00-02]

RIN 2120-AG84

Certification of Screening Companies

AGENCY: Federal Aviation Administration (FAA), DOT.

ACTION: Notice of public meetings and extension of comment period.

SUMMARY: This action extends the comment period and announces two pubic meetings on the subject of “Certification of Screening Companies; Notice of Proposed Rulemaking (NPRM)” (65 FR 560, January 5, 2000). In that NPRM, the FAA proposes to require that all companies that perform aviation security screening be certificated by the FAA and meet enhanced requirements. This extension and the public meetings are a result of a formal request from the Air Transport Association (ATA) and the Regional Airline Association (RAA) to extend the comment period and hold a public meeting on the proposal. These actions will afford interested parties additional opportunity to present their views on the proposed rulemaking.

DATES: The public meetings will be on April 4, 2000, in San Francisco, CA and April 6, 2000, in Fort Worth, TX. The meetings will begin at 9 a.m. Persons unable to attend the meetings are invited to provide written comments, which must be received on or before May 4, 2000.

ADDRESSES: The public meeting on April 4, 2000, will be held at the State of California Building Auditorium, 455 Golden Gate Avenue, San Francisco, CA 94102. The public meeting on April 6, 2000, will be held at the Fritz Lanham Federal Building, Room 1A03, 819 Taylor Street, Fort Worth, TX 76102. Persons unable to attend the meetings may mail their comments in duplicate to: U.S. Department of Transportation Dockets, Docket No. FAA-1999-6673, 400 Seventh Street, SW., Room Plaza 401, Washington, DC 20590. Comments may be filed and examined in Room Plaza 401 between 10 am and 5 pm weekdays, except Federal holidays. Comments also may be sent electronically to the Dockets Management System (DMS) at the following Internet address: http://dms.dot.gov/ at anytime. Commenters who wish to file comments electronically should follow the instructions on the DMS web site.

FOR FURTHER INFORMATION CONTACT: Requests to present a statement at the meetings or questions regarding the logistics of the meetings should be directed to Judy Courbois, Federal Aviation Administration, Office of Rulemaking, ARM-102, 800 Independence Avenue, SW., Washington, DC 20591; telephone (202) 267-9783; fax (202) 267-5075. Questions concerning the subject matter of the meetings should be directed to Scott Cummings, Office of Civil Aviation Security Policy and Planning (ACP-100), Federal Aviation Administration, 800 Independence Avenue, SW., Washington, DC 20591; telephone (202) 267-9468; fax (202) 267-5359.

SUPPLEMENTARY INFORMATION:

Comments Invited

Interested persons are invited to participate in the making of the proposed rule by submitting such written data, views, or arguments, as they may desire. Comments relating to the environmental, energy, federalism, or economic impact that might result from adopting the proposed rule also are invited. Substantive comments should be accompanied by cost estimates. Comments must identify the regulatory docket or notice number and be submitted in duplicate to the DOT Rules Docket address specified above.

All comments received, as well as a report summarizing each substantive public contact with FAA personnel on this rulemaking, will be filed in the docket. All comments received on or before the closing date will be considered by the Administrator before taking action on this proposed rulemaking. Comments filed late will be considered as far as possible without incurring expense or delay. The proposals in notice No. 99-21 may be changed in light of the comments received.

Comments received on the proposal will be available before and after the closing date for comments in the DOT Rules Docket for examination by interested persons. However, the Assistant Administrator for Civil Aviation Security has determined that the security programs required by parts 108, 109, and 129 contain sensitive security information. As such, the availability of information pertaining to these security programs is governed by part 191. Carriers, screening companies, and others who wish to comment on the NPRM should be cautious not to include in their comments any information contained in any security program.

Commenters wishing the FAA to acknowledge receipt of their comments submitted in response to this notice or to the NPRM must include a pre-addressed, stamped postcard with those comments on which the following statement is made: “Comments to Docket No. FAA-1999-6673.” The postcard will be date stamped and mailed to the commenter.

Availability of Notices

An electronic copy of this document may be downloaded using a modem and suitable communications software from the FAA regulations section of the Fedworld electronic bulletin board service (telephone: (703) 321-3339) or the Government Printing Office (GPO)'s electronic bulletin board service (telephone: (202) 512-1661).

Internet users may reach the FAA's web page at http://www.faa.gov/avr/arm/nprm/nprm.htm or the GPO's web page at http://www.access.gpo.gov/nara for access to recently published rulemaking documents.

Any person may obtain a copy of this notice by submitting a request to the Federal Aviation Administration, Office of Rulemaking, ARM-1, 800 Independence Avenue, SW., Washington, DC 20591, or by calling (202) 267-9680. Communications must identify the notice number or docket number of this document.

Persons interested in being placed on the mailing list for future notices should request from the above office a copy of Advisory Circular No. 11-2A, Notice of Proposed Rulemaking Distribution System, that describes the application procedure.

Background

On December 15, 1999, the FAA issued notice No. 99-21, “Certification of Screening Companies, NPRM” (65 FR 560, January 5, 2000). Comments to that document were to be received on or before April 4, 2000.

By letter dated January 20, 2000, ATA and RAA requested that the FAA schedule a public meeting and extend the comment period for notice No. 99-21 by 90 days until July 5, 2000. ATA and RAA stated that given the length and complexity of the rule, it is unreasonable for the FAA to expect that affected parties will be able to thoroughly analyze the operational and financial impact of the proposed rule within the comment period the FAA allocated. It also noted that there are many entities, including small screening companies that are unfamiliar with the FAA's regulatory procedures and may have never participated in the rulemaking process. ATA and RAA further stated that it is in the interest of the FAA and the aviation industry to provide a detailed briefing of the elements of the NPRM.

In accordance with § 11.29(c) of title 14, Code of Federal Regulations, the FAA has reviewed ATA and RAA's petition for extension of the comment period to notice No. 99-21 and request for a public meeting. ATA and RAA have shown a substantive interest in the proposed rule and good cause for the extension and a public meeting.

The FAA scheduled one public meeting in Washington, DC on March 10, 2000, as announced in the Federal Register on February 2, 2000. The FAA believes that two additional public meetings and a 30-day extension of the comment period will provide the public sufficient additional opportunity to present comments on the proposed rule. However, in view of the Congressional mandate to improve the training and testing of screeners without delay, the FAA has determined that the requested 90-day extension of the comment period is not appropriate. The FAA also has determined that extending the comment period and holding public meetings are consistent with the public interest.

Participation at the Meetings

The FAA should receive requests from persons who wish to present oral statements at either meeting no later than March 24, 2000. Such requests should be submitted to Judy Courbois, as listed above in the section titled FOR FURTHER INFORMATION CONTACT, and should include a written summary of oral remarks to be presented and an estimate of time needed for the presentation. The FAA will prepare an agenda of speakers, which will be available at the meetings. The names of those individuals whose requests to present oral statements are received after the date specified above may not appear on the written agenda. To accommodate as many speakers as possible, the amount of time allocated to each speaker may be less than the amount of time requested. Persons requiring audiovisual equipment should notify the FAA when requesting to be placed on the agenda.

Public Meeting Procedures

The FAA will use the following procedures to facilitate the meetings:

(1) There will be no admission fee or other charge to attend or to participate in the meetings. The meetings will be open to all persons who are scheduled to present statements or who register between 8:30 am and 9 am on the day of the meetings. While the FAA will make every effort to accommodate all persons wishing to participate, admission will be subject to availability of space in the meeting rooms. The meetings may adjourn early if scheduled speakers complete their statements in less time than is scheduled for the meetings.

(2) An individual, whether speaking in a personal or a representative capacity on behalf of an organization, may be limited to a 10-minute statement. If possible, we will notify the speaker if additional time is available.

(3) The FAA will try to accommodate all speakers. If the available time does not permit this, speakers generally will be scheduled on a first-come-first-served basis. However, the FAA reserves the right to exclude some speakers if necessary to present a balance of viewpoints and issues.

(4) Sign and oral interpretation can be made available at the meetings, as well as an assistive listening device, if requested 10 calendar days before the meetings.

(5) Representatives of the FAA will preside over the meetings. A panel of FAA personnel involved in this proposal will be present.

(6) The meetings will be recorded by a court reporter. A transcript of the meetings and any material accepted by the FAA representatives during the meetings will be included in the public docket. Any person who is interested in purchasing a copy of the transcript should contact the court reporter directly. Additional transcript purchase information will be available at the meetings.

(7) The FAA will review and consider all material presented by participants at the meetings. Position papers or material presenting views or arguments related to the certification of screening companies may be accepted at the discretion of the presiding officer and subsequently placed in the public docket. The FAA requests that persons participating in the meetings provide six copies of all materials to be presented for distribution to the FAA representatives; other copies may be provided to the audience at the discretion of the participant.

(8) Statements made by FAA representatives are intended to facilitate discussion of the issues or to clarify issues. Any statement made during the meetings by an FAA representative is not intended to be, and should not be construed as, a position of the FAA.

(9) The meetings are designed to solicit public views and gather additional information on the certification of screening companies. Therefore, the meetings will be conducted in an informal and non-adversarial manner. No individual will be subject to cross-examination by any other participant; however, FAA representatives may ask questions to clarify a statement and to ensure a complete and accurate record.

Extension of Comment Period

The FAA has reviewed the request for consideration of an extended comment period for notice No. 99-21 and determined that an extension would be in the public interest, and that good cause exists for taking this action.

Accordingly, the comment period for notice No. 99-21 is extended to May 4, 2000.

Issued in Washington, DC on March 15, 2000.
Jan Brecht-Clark,
Director, Office of Civil Aviation Security Policy and Planning.

[FR Doc. 00-6872 Filed 3-15-00; 3:46 pm]

BILLING CODE 4910-13-U